DEPARTMENT OF ENERGY

Federal Energy Regulatory Commission

[Docket No. EL00-62-011]

ISO New England Inc.; Notice of Filing

October 12, 2000.

Take notice that on October 11, 2000, the New England Power Pool (NEPOOL) Participants Committee submitted additional information relating to its September 26, 2000 filing in the above captioned docket. This supplemental information updates the voting results set forth in NEPOOL's September 26, 2000 filing.

The NEPOOL Participants Committee states that copies of these materials were sent to all persons identified on the service lists in the above captioned docket, the NEPOOL Participants, non-Participant Transmission Customers and the six New England state governors and regulatory commissions.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before November 13, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.fed.us/online/rims.htm (call 202-208-2222 for assistance).

David P. Boergers,
Secretary.

[FR Doc. 00-26745 Filed 10-17-00; 8:45 am]

BILLING CODE 6717-01-M